FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR Part 515).

Persons knowing of any reason why the following applicants should not receive a license are requested to contact the Office of Transportation Intermediaries, Federal Maritime Commission, Washington, DC 20573.

Non-Vessel Operating Common Carrier Ocean Transportation Intermediary Applicants:

Trans Atlantic Container Lines, Inc., 720 Frelinghuysen Avenue, Newark, NJ 07114.

Officers: Rosei Amoo-Acham Pong, Vice President (Qualifying Individual), Phipps E. Amoo-Achampong, President.

Ace Logistics, Inc., 1173 McCabe Avenue, Elk Grove Village, IL 60007.

Officers: Kevin H. Choi, Director/Secretary (Qualifying Individual), Eunice Choi, Director/President.

Fil-Am Cargo Corporation, 8939 Woodman Avenue, Suite 11, Arleta, CA 91331.

Officers: Angelo D. Orlanda, President Qualifying Individual), Winnie H. Orlanda, Vice President.

Ever-OK International Forwarding Co., Ltd., 500 Citadel Drive, 2nd Floor, Los Angeles, CA 90040-1575.

Officers: Victoria L. Florio, Secretary (Qualifying Individual), Hu Bo, Director.

Non-Vessel Operating Common Carrier and Ocean Freight Forwarder Transportation Intermediary Applicants:

UTL International, Inc., 2505 Vista Industria, Compton, CA 90221.

Officers: Chi Ae Leem, President/Vice President (Qualifying Individual), Hun Kevin Leem, Secretary.

Southgate Shipping, Inc. dba Oceanways Consolidation Services, 68 Cypress Run, Bluffton, S.C. 29909.

Officers: Kurt Borcherding, Vice President (Qualifying Individual), Cathering Borcherding, President.

L & R Cargo, Inc., 8540 NW. 66th Street, Miami, FL 33166.

Officers: Ricardo Leon, Secretary, Cesar Lara, President (Qualifying Individuals).

Ocean Freight Forwarder—Ocean Transportation Intermediary Applicants:

Teclogistics, 1017 Northwest 100 Road, Suite 100 A, Houston, TX 77092, Josephine Treurniet, Sole Proprietor.

Hua Feng (USA) Logistics Inc., 11222 S. La Cienega Blvd., Suite 608, Inglewood, CA 90304

Officers: Rocyna Chui, Secretary (Qualifying Individual), Wang Dong, Director.

Dated: May 28, 2004.
Bryant L. VanBrakle,
Secretary.

[FR Doc. 04-12588 Filed 6-2-04; 8:45 am]

BILLING CODE 6730-01-P